FEDERAL COMMUNICATIONS COMMISSION

47 CFR Part 73

[DA 24-1198; MB Docket No. 24-667; RM-11992; FR ID 266488]

Radio Broadcasting Services; Ethete, Wyoming

AGENCY: Federal Communications Commission.

ACTION: Proposed rule.

SUMMARY: This document requests comments on a petition for rule making filed by The Business Council of the Northern Arapaho, the non-gaming Tribal governmental agency of the Northern Arapaho Tribe, proposing to amend the FM Table of Allotments, by allotting Channel 260C0 at Ethete, Wyoming, as a Tribal allotment and the community's first local service. A staff engineering analysis indicates that Channel 260C0 can be allotted to Ethete, Wyoming, consistent with the minimum distance separation requirements of the Commission's rules, with a site restriction of 42 km (26 miles) north of the community. The reference coordinates are 43-22-25 NL and 108-36-28 WL.

DATES: Comments must be filed on or before January 17, 2025, and reply comments on or before February 3, 2025.

ADDRESSES: Secretary, Federal Communications Commission, 45 L Street NE, Washington, DC 20554. In addition to filing comments with the FCC, interested parties should serve the petitioner and its counsel as follows: The Business Council of the Northern Arapaho, c/o Anne Goodwin Crump, Fletcher, Heald & Hildreth, P.L.C., 1300 N 17th Street—Eleventh Floor, Arlington, Virginia 22209.

FOR FURTHER INFORMATION CONTACT: Rolanda F. Smith, Media Bureau, (202) 418-2054, Rolanda-Faye.Smith@fcc.gov.

SUPPLEMENTARY INFORMATION: This is a synopsis of the Federal Communications Commission's (Commission) Notice of Proposed Rule Making, MB Docket No. 24-667, adopted December 3, 2024, and released December 3, 2024. The full text of this Commission decision is available online at https://apps.fcc.gov/ecfs. The full text of this document can also be downloaded in Word or Portable Document Format (PDF) at https://www.fcc.gov/edocs. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will publish the required summary of this notice of proposed rulemaking on https://www.fcc.gov/proposed-rulemakings, pursuant to The Providing Accountability Through Transparency Act, see 5 U.S.C. 553(b)(4).

Provisions of the Regulatory Flexibility Act of l980 do not apply to this proceeding.

Members of the public should note that from the time a notice of proposed rulemaking is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

Proposed Rules

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.202, amend table 1 to paragraph (b) under Wyoming by adding in alphabetical an entry for “Ethete” to read as follows:

§ 73.202 Table of Allotments.

* * * * *

(b) * * *

Table 1 to Paragraph (b)
[U.S. States]
| Channel No.
* * * * *
Wyoming
* * * * *
Ethete | 260C0
* * * * *

[FR Doc. 2024-29434 Filed 12-13-24; 8:45 am]

BILLING CODE 6712-01-P